DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; revision of a currently approved information collection; OMB No. 1660-0087; No Forms.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the revision of the Preparedness Comprehensive Assessment Support Tool (PrepCAST) (formerly known as the National Incident Management System Compliance Assistance Support Tool (NIMSCAST)). PrepCAST is a self-assessment tool for State, territorial, Tribal, and local governments to evaluate and report on their jurisdiction's achievement with regard to the National Incident Management System (NIMS) implementation activities relating to the preparedness of the respondent to react to emergency incidents. PrepCAST will also collect preparedness data using the Targeted Capabilities List (TCL) framework.

DATES: Comments must be submitted on or before August 18, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Bill Schwinn, Assessments Section Chief, Preparedness Policy, Planning, and Analysis, National Preparedness Directorate, Federal Emergency Management Agency, U.S. Department of Homeland Security, (202) 786-9595 for additional information. You may contact the Records Management Branch for copies of the proposed collection of information at facsimile number (202) 646-3347 or e-mail address: FEMA-Information-Collections@dhs.gov.

SUPPLEMENTARY INFORMATION: In 2003, Homeland Security Presidential Directive-8: National Preparedness (HSPD-8) called for establishing a system that would assess the Nation's overall preparedness and provide an annual status report of national preparedness. Three years later, the Post-Katrina Emergency Management Reform Act (PKEMRA) included requirements to establish a “comprehensive system to assess, on an ongoing basis, the Nation's prevention capabilities and overall preparedness.”

The National Preparedness Directorate (NPD) within FEMA is charged with developing the Comprehensive Assessment System (CAS). The CAS will, as mandated by PKEMRA 649(c)(1-4), assess compliance with the national preparedness system, the National Incident Management System (NIMS), and other related plans; assess capability levels against target levels; assess resource needs to meet target levels; and assess the performance of training, exercises, and operations.

Collection of Information

Title: PrepCAST (formerly NIMSCAST).

Type of Information Collection: Revision of a currently approved information collection.

OMB Number: 1660-0087.

Form Titles and Numbers: No Forms.

Abstract: The PrepCAST is a standardized data collection and assessment process that effectively assesses prevention, protection, response, and recovery capabilities at the regional, State, local, and Tribal levels In the National Incident Management System collection tool, data will be collected on the respondent's ability to meet the established NIMS Implementation Objectives. The State Preparedness Report collection tool will address questions about current capabilities that have not already been answered through other assessments and reports, focusing on level of performance of individual activities for the 37 capabilities set forth in the Target Capabilities List (TCL) 2.0. FEMA collects this data to guide policy and resource allocation decisions.

Affected Public: State, Local and Tribal Government.

Estimated Total Annual Burden Hours: 24,278 hours.

Table A.12—Estimated Annualized Burden Hours and Costs
Type of respondent | Form name/Form No. | Number of respondents | Number of responses per respondent | Avg. burden per response (in hours) | Total annual burden (in hours) | Avg. hourly wage rate | Total annual respondent cost
State, local or Tribal government | National Incident Management System/No Form Number | 3926 | 1 | 5 | 19,630 | 28.60 | $785,985
State, local or Tribal government | State Preparedness Report/No Form Number | 56 | 1 | 83 | 4,648 | 28.60 | 186,106
Total |  |  |  |  | 24,278 |  | 972,091

Estimated Cost: There is no annual reporting and recordkeeping cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-14480 Filed 6-18-09; 8:45 am]

BILLING CODE 9111-46-P